DEPARTMENT OF HOMELAND SECURITY

Coast Guard

33 CFR Part 100

[Docket No. USCG-2013-1061; 1625-AA08]

Special Local Regulations; Eighth Coast Guard District Annual and Recurring Marine Events Update

AGENCY: Coast Guard, DHS.

ACTION: Final rule.

SUMMARY: The Coast Guard is amending and updating its special local regulations relating to recurring marine parades, regattas, and other events that take place in the Eighth Coast Guard District area of responsibility (AOR). This final rule informs the public of regularly scheduled marine parades, regattas, and other recurring events that require additional safety measures through establishing a special local regulation. Through this final rule, the list of recurring marine events requiring special local regulation is updated with revisions, additional events, and removal of events that no longer take place in the Eighth Coast Guard District AOR. When these special local regulations are enforced, certain restrictions are placed on marine traffic in specified areas. Additionally, this one rulemaking project reduces administrative costs involved in producing a separate rule for each individual recurring event, and serves to provide notice of the known recurring events requiring a special local regulation throughout the year.

DATES: Effective September 18, 2015.

ADDRESSES: Documents mentioned in this preamble are part of Docket Number [USCG-2013-1061]. To view documents mentioned in this preamble as being available in the docket, go to http://www.regulations.gov, type the docket number in the “SEARCH” box and click “SEARCH.” Click on “Open Docket Folder” on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Shelley R. Miller, Eighth Coast Guard District Waterways Management Division, (504) 671-2139 or email, Shelley.R.Miller@uscg.mil. If you have questions on viewing the docket, call Cheryl Collins, Program Manager, Docket Operations, telephone 202-366-9826.

SUPPLEMENTARY INFORMATION:

Table of Acronyms

AOR Area of Responsibility

BNM Broadcast Notice to Mariners

COTP Captain of the Port

DHS Department of Homeland Security

FR Federal Register

LNM Local Notice to Mariners

NPRM Notice of Proposed Rulemaking

A. Regulatory History and Information

The Coast Guard preceded this final rule with an interim final rule with request for comments. The interim rule was published in the Federal Register on April 22, 2014 (79 FR 22381). The interim rule established separate tables for each of the Sectors operating within the Coast Guard's Eighth District, and updated the list of recurring marine events and special local regulations under 33 CFR part 100. Although no adverse comments were received, some comments to further update the recurring list were received. Because the interim rule and now this final rule establish separate tables for each Sector within the Eighth District, further updates will now be made by each Sector individually, impacting only their table of marine events and special local regulations.

The list of annual and recurring marine events and special local regulations occurring in the Eighth Coast Guard District Area of Responsibility (AOR) is published under 33 CFR 100.801. That list was last updated through a direct final rule with request for comments on March 1, 2012 (77 FR 12456) and further amended on May 16, 2012 (77 FR 28766). These actions generated no adverse comments. Like today's final rule and its preceding interim rule, the 2012 final rules updated, added to, removed from, and amended 33 CFR 100.801 to create a comprehensive list of recurring marine events requiring special local regulations.

B. Basis and Purpose

The legal basis for the rule is found in 33 U.S.C. 1233, which authorizes the Coast Guard to permit marine events and establish special local regulations related to those marine events.

The Coast Guard is amending and updating the special local regulations under 33 CFR part 100 to incorporate the numerous annual marine events held on or around navigable waters within the Eighth Coast Guard District. These events include marine parades, boat races, swim events, and other marine related events. Currently, there is a list of events located at 33 CFR § 100.801, establishing a special local regulation for each annual or recurring marine event in the Eighth Coast Guard District's AOR. That list must be amended in order to: Provide new information on existing events; include 42 new events expected to recur annually or biannually; and remove 16 special local regulations that are no longer required. Issuing individual rulemakings for each new event, amendment, or removal of an event, would create unnecessary administrative costs and burdens. This rule considerably reduces administrative overhead and provides the public with notice through publication in the Federal Register of the upcoming recurring marine events and their accompanying special local regulations.

C. Discussion of Comments, Changes and the Final Rule

No adverse comments were received in response to the April 22, 2014 interim final rule. Some comments regarding further updates to the recurring list were received. Because the interim rule and now this final rule establish separate tables for each Sector within the Eighth District, further updates will now be made by each Sector individually, impacting only their table of recurring marine events requiring special local regulations. Accordingly, this final rule makes no changes to the regulations in the interim rule.

D. Regulatory Analyses

We developed this rule after considering numerous statutes and executive orders related to rulemaking. Below we summarize our analyses based on a number of these statutes or executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders.

The marine parades, regattas, and other marine events listed in this rule will restrict vessel traffic in certain areas of Eighth Coast Guard District waters at specified times; however, the effect of this regulation will not be significant because these events are short in duration and the special local regulations restricting and governing vessel movements are also limited in scope and short in duration. Additionally, the public is given advance notification through local forms of notice, the Federal Register, and/or Notices of Enforcement and thus will be able to plan operations around the events in advance. Deviations from each special local regulation may be requested through the COTP and each request will be considered on a case-by-case basis.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

This rule may affect the following entities, some of which might be small entities: The owners or operators of vessels intending to transit the regulated areas during the marine events and periods of enforcement. The special local regulations will not have a significant economic impact on a substantial number of small entities for the following reasons. These regulations are limited in scope and will be in effect for short periods of times. Before each enforcement period, the Coast Guard COTP will issue maritime advisories widely available to waterway users. Deviations from each special local regulation may be requested through the COTP and each request will be considered on a case-by-case basis.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or risk to safety that may disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have determined that this action is one of a category of actions that do not individually or cumulatively have a significant effect on the human environment. This rule is categorically excluded from further review under section 2.B.2. figure 2-1, paragraph 34(h) of the Commandant Instruction because it involves the establishment of special local regulations related to marine event permits for marine parades, regattas, and other marine events. An environmental analysis checklist and a categorical exclusion determination are available in the docket where indicated under the ADDRESSES.

List of Subjects in 33 CFR Part 100

Marine safety, Navigation (water), Reporting and recordkeeping requirements, and Waterways.

PART 100—SAFETY OF LIFE ON NAVIGABLE WATERS

Accordingly, the interim rule amending 33 CFR part 100 that published at 79 FR 22381 on April 22, 2014, is adopted as a final rule without change.

Dated: June 27, 2015.
D.R. Callahan,
Rear Admiral, U.S. Coast Guard, Commander, Eight Coast Guard District.

[FR Doc. 2015-20407 Filed 8-18-15; 8:45 am]

BILLING CODE 9110-04-P